DEPARTMENT OF TRANSPORTATION

Pipeline and Hazardous Materials Safety Administration

49 CFR Part 192

[Docket No. PHMSA-2023-0080]

Pipeline Safety: Mifflin Energy Corporation's Petition for Declaratory Order Concerning Part 192 Jurisdiction and Operator Responsibility Over Customer-Owned Piping

AGENCY: Pipeline and Hazardous Materials Safety Administration (PHMSA), U.S. Department of Transportation (DOT).

ACTION: Petition for a Declaratory Order.

SUMMARY: The Pipeline and Hazardous Materials Safety Administration is seeking comment on a Petition for a Declaratory Order (Petition).

DATES: Comments are due on or before December 11, 2023. Reply comments to comments received are due on or before December 26, 2023.

ADDRESSES: Comments should reference the docket number for the petition request and may be submitted by any of the following methods:

• Web: https://www.regulations.gov. This site allows the public to enter comments on any Federal Register document issued by any agency. Follow the online instructions for submitting comments.

• Fax: 202-493-2251.

• Mail: Docket Management Facility, U.S. Department of Transportation, 1200 New Jersey Avenue SE, West Building: Room W12-140, Washington, DC 20590-0001.

• Hand Delivery: U.S. Department of Transportation, 1200 New Jersey Avenue SE, West Building: Room W12-140, Washington, DC 20590-0001, between 9 a.m. and 5 p.m. EST, Monday through Friday, except Federal holidays.

• Instructions: Identify [Docket No. PHMSA-2023-0080] at the beginning of your comments. If you submit your comments by mail, submit two copies. Internet users may submit comments at https://www.regulations.gov. If you would like confirmation that PHMSA received your comments, please include a self-addressed stamped postcard labeled “Comments on PHMSA-2023-0080.” The docket clerk will date stamp the postcard prior to returning it to you via U.S. mail.

• Note: All comments received will be posted without edits to https://www.regulations.gov, including any personal information provided. Please see the Privacy Act heading for more information. Anyone can use the site to search all comments by the name of the submitting individual or, if the comment was submitted on behalf of an association, business, labor union, etc., the name of the signing individual. Therefore, please review the complete DOT Privacy Act Statement in the Federal Register at 65 FR 19477 or the Privacy Notice at https://www.regulations.gov before submitting comments.

• Privacy Act Statement: DOT may solicit comments from the public regarding certain general notices. DOT posts these comments without edit, including any personal information the commenter provides, to www.regulations.gov, as described in the system of records notice (DOT/ALL- 14 FDMS), which can be reviewed at www.dot.gov/privacy.

• Confidential Business Information: Confidential Business Information (CBI) is commercial or financial information that is both customarily and actually treated as private by its owner. Under the Freedom of Information Act (5 U.S.C. 552), CBI is exempt from public disclosure. If your comments in response to this document contain commercial or financial information that is customarily treated as private, that you actually treat as private, and that is relevant or responsive to this document it is important that you clearly designate the submitted comments as CBI. Pursuant to 49 CFR 190.343, you may ask PHMSA to provide confidential treatment to information you give to the Agency by taking the following steps: (1) mark each page of the original document submission containing CBI as “Confidential;” (2) send PHMSA a copy of the original document with the CBI deleted along with the original, unaltered document; and (3) explain why the information you are submitting is CBI. Submissions containing CBI should be sent to Tewabe Asebe, U.S. Department of Transportation, 1200 New Jersey Avenue SE, Washington, DC 20590-0001. Submission containing CBI can also be emailed to Tewabe Asebe by encrypted email at tewabe.asebe@dot.gov. Any commentary PHMSA receives that is not specifically designated as CBI will be placed in the public docket.

• Docket: For access to the docket or to read background documents or comments, go to https://www.regulations.gov. Follow the online instructions for accessing the dockets. Alternatively, this information is available by visiting DOT at 1200 New Jersey Avenue SE, West Building: Room W12-140, Washington, DC 20590-0001, between 9:00 a.m. and 5:00 p.m. EST, Monday through Friday, except Federal holidays.

FOR FURTHER INFORMATION CONTACT: Tewabe Asebe, Office of Pipeline Safety, by phone at 202-366-5523 or by email at tewabe.asebe@dot.gov.

SUPPLEMENTARY INFORMATION: PHMSA is evaluating a Petition for a Declaratory Order (Petition) from Mifflin Energy Corporation (Mifflin), pursuant to 49 U.S.C. 60117(b)(1)(J).

Mifflin operated a production line in Greene County, Pennsylvania, which was subject to a free gas arrangement. Under the arrangement, gas flowed from Mifflin's production line through a pipeline owned by the landowner, with the regulator and meter placed at the juncture of the production line and the customer-owned pipeline. In March 2020, with Mifflin's consent, the landowner moved the regulator and the meter downstream of the juncture, further down the landowner's pipeline. On April 9, 2020, a failure occurred on the landowner's piping, causing damage to a nearby residential structure.

On January 29, 2021, the Pennsylvania Public Utility Commission's (PAPUC) Bureau of Investigation and Enforcement (BI&E) requested an interpretation of 49 CFR part 192 as it concerned the facts of this incident. On September 21, 2021, OPS issued an interpretation in response to BI&E's inquiry.¹ The 2021 Interpretation stated that the piping between Mifflin's production line and the landowner's meter was a service line under § 192.3; the lease agreement did not have an impact on whether the pipe was a service line; and Mifflin was an “operator” within the meaning of § 192.3.

¹ PHMSA, Interp. No. PI-21-0003, In re Pennsylvania Public Utility Commission, (Sept. 1, 2021) (the “2021 Interpretation”).

On March 20, 2023, Mifflin filed a Petition with PHMSA requesting PHMSA issue an order declaring that, under a free gas arrangement, customer-owned piping upstream of a meter is not subject to 49 CFR part 192, and that a production line operator is not responsible for ensuring compliance with part 192 on customer piping. The Petition also requested that PHMSA rescind its 2021 Interpretation issued to BI&E. The Petition is available for review in the docket for this proceeding.

Before issuing a final decision on the Petition, PHMSA will evaluate all comments received on or before the comment closing date. Comments received after the closing date will be evaluated if it is possible to do so without incurring additional expense or delay. PHMSA will consider each relevant comment received in issuing its final decision and order, which will be published in the Federal Register and posted to PHMSA's website.

PHMSA notes this is the first time a person has petitioned for issuance of a declaratory order under authority granted to PHMSA by the PIPES Act of 2020. See Protecting Our Infrastructure of Pipelines and Enhancing Safety Act of 2020, Consolidated Appropriations Act, 2021, Division R, Public Law 116-260, section 108(a), 134 Stat. 1181, 2221, 2223; 49 U.S.C. 60117(b)(1)(J). PHMSA is committed to including an opportunity for public comment in circumstances in which it exercises its authority to issue a declaratory order.

Issued in Washington, DC, on November 3, 2023, under authority delegated in 49 CFR 1.97.
Alan K. Mayberry,
Associate Administrator for Pipeline Safety.

[FR Doc. 2023-24718 Filed 11-8-23; 8:45 am]

BILLING CODE 4910-60-P